DEPARTMENT OF THE INTERIOR

Bureau of Land Management

[LLNVC02000.L57000000.BX0000; 9-08807; TAS: 14X5017]

Temporary Closure of Public Lands in Washoe County, NV

AGENCY: Bureau of Land Management, Interior.

ACTION: Notice of Closure.

SUMMARY: Pursuant to 43 CFR 8364.1 certain public lands near Stead, Nevada, will be temporarily closed to all public use. This action is being taken to provide for public safety during the 2009 Reno National Championship Air Races.

DATES: Effective Dates: Closure to all public use September 12 through September 20, 2009.

FOR FURTHER INFORMATION CONTACT: Linda Kelly, Sierra Front Field Office Manager at (775) 885-6118.

SUPPLEMENTARY INFORMATION: This closure is authorized under the provisions of the Federal Land Policy and Management Act of 1976, 43 U.S.C. 1701 et. seq. This closure applies to all public use, including pedestrian use and vehicles. The public lands affected by this closure are described as follows:

Mount Diablo Meridian, Nevada

T. 21 N., R. 19 E.,

Sec. 8, N½NE¼, SE¼NE¼, E½SE¼;

Sec. 16, N½, SE¼.

The area described contains 680 acres, more or less.

Exceptions: Closure restrictions do not apply to event officials, medical/rescue, law enforcement, and agency personnel monitoring the events.

Penalties: Any person who fails to comply with this closure order is subject to arrest and, upon conviction, may be fined not more than $1,000 and/or imprisonment for not more than 12 months.

(Authority: 43 CFR 8360.0-7 and 8364.1)

Bryant Smith,
Associate Manager, Carson City District.

[FR Doc. E9-16138 Filed 7-7-09; 8:45 am]

BILLING CODE 4310-HC-P